INTERNATIONAL TRADE COMMISSION

[Investigation Nos. 701-TA-455 and 731-TA-1149 (Second Review)]

Circular Welded Carbon Quality Steel Line Pipe From China

Determinations

On the basis of the record ¹ developed in these subject five-year reviews, the United States International Trade Commission (“Commission”) determines, pursuant to the Tariff Act of 1930 (“the Act”), that revocation of the countervailing and antidumping duty orders on circular welded carbon quality steel line pipe from China would be likely to lead to continuation or recurrence of material injury to an industry in the United States within a reasonably foreseeable time.²

¹ The record is defined in sec. 207.2(f) of the Commission's Rules of Practice and Procedure (19 CFR 207.2(f)).

² Commissioners Randolph J. Stayin and Amy A. Karpel did not participate.

Background

The Commission, pursuant to section 751(c) of the Act (19 U.S.C. 1675(c)), instituted these reviews on April 1, 2019 (84 FR 12285) and determined on July 5, 2019 that it would conduct expedited reviews (84 FR 39861, August 12, 2019).

The Commission made these determinations pursuant to section 751(c) of the Act (19 U.S.C. 1675(c)). It completed and filed its determinations in these reviews on September 19, 2019. The views of the Commission are contained in USITC Publication 4955 (September 2019), entitled Circular Welded Carbon Quality Steel Line Pipe from China: Investigation Nos. 701-TA-455 and 731-TA-1149 (Second Review).

By order of the Commission.
Issued: September 20, 2019.
Lisa Barton,
Secretary to the Commission.

[FR Doc. 2019-20782 Filed 9-24-19; 8:45 am]

BILLING CODE 7020-02-P